DEPARTMENT OF DEFENSE

Office of the Secretary

[Docket ID DOD-2008-OS-0171]

Privacy Act of 1974; System of Records

AGENCY: National Reconnaissance Office, DoD.

ACTION: Notice to Delete a System of Records.

SUMMARY: The National Reconnaissance Office is deleting a system of records notice in its existing inventory of record systems subject to the Privacy Act of 1974 (5 U.S.C. 552a), as amended.

DATES: This action will be effective without further notice on February 6, 2009 unless comments are received that would result in a contrary determination.

ADDRESSES: Send comments to the FOIA/Privacy Official, National Reconnaissance Office, Information Access and Release, 14675 Lee Road, Chantilly, VA 20151-1715.

FOR FURTHER INFORMATION CONTACT: Contact the FOIA/NRO Privacy Official at (703) 227-9128.

SUPPLEMENTARY INFORMATION: The National Reconnaissance Office notices for systems of records subject to the Privacy Act of 1974 (5 U.S.C. 552a), as amended, have been published in the Federal Register and are available from the address above.

The National Reconnaissance Office proposes to delete a system of records notice in its inventory of record systems subject to the Privacy Act of 1974 (5 U.S.C. 552a), as amended. The proposed deletion is not within the purview of subsection (r) of the Privacy Act of 1974, (5 U.S.C. 552a), as amended, which requires the submission of a new or altered system report.

Dated: December 30, 2008.
Patricia L. Toppings,
OSD Federal Register Liaison, Officer, Department of Defense.

QNRO-3

System name:

Diet and Nutrition Evaluation Records (August 22, 2000, 65 FR 50969).

Reason:

These records are no longer kept; the data that was in the system did not contain personal information, but only information on the nutritional value of foods.

[FR Doc. E9-39 Filed 1-6-09; 8:45 am]

BILLING CODE 5001-06-P